LIBRARY OF CONGRESS

Copyright Office

37 CFR Parts 201, 202, 203, 204, 205, and 211

[Docket No. RM 2008-4]

Copyright Rules and Regulations

AGENCY: Copyright Office, Library of Congress.

ACTION: Final rule, technical amendments.

SUMMARY: The Copyright Office is making non-substantive housekeeping amendments to its regulations to update them and to correct minor errors.

EFFECTIVE DATE: July 1, 2008.

FOR FURTHER INFORMATION CONTACT: Tanya Sandros, General Counsel. Copyright GC/I&R, P.O. Box 70400. Washington, DC 20024. Telephone: (202) 707-8380. Telefax: (202) 707-8366.

SUPPLEMENTARY INFORMATION: The Copyright Office periodically reviews its regulations as published in the Code of Federal Regulations (CFR) to correct minor errors in the published text and to make technical amendments. This final rule corrects minor errors identified in the published rules but also makes technical amendments required because of new office designations and other non-substantial changes resulting from the business process reengineering initiative that was implemented by the Office in July 2007. The following parts are amended to make these corrections: parts 201, 202, 203, 204, 205, and 211.

List of Subjects

37 CFR Part 201

Copyright, General provisions.

37 CFR Part 202

Copyright, Registration.

37 CFR Part 203

Freedom of Information Act.

37 CFR Part 204

Privacy Act.

37 CFR Part 205

Legal processes.

37 CFR Part 211

Mask works.

37 CFR Part 212

Vessel hull designs.

37 CFR Part 251

Administrative practice and procedure, Hearing and appeal procedures.

37 CFR Part 253

Copyright, Noncommercial educational broadcasting.

37 CFR Part 254

Coin-operated phonorecord players, Compulsory license fees.

37 CFR Part 255

Compulsory license fees, Phonorecords.

37 CFR Part 260

Copyright, Digital audio transmissions, Performance right, Sound recordings.

37 CFR Part 261

Copyright, Digital audio transmissions, Performance right, Sound recordings.

37 CFR Part 262

Copyright, Digital audio transmissions, Performance right, Sound recordings.

37 CFR Part 263

Copyright, Digital audio transmissions, Performance right, Sound recordings.

37 CFR Part 270

Notice of use, Sound recordings, Statutory license.

Final Rule

Accordingly, 37 CFR Chapter II is amended by making the following corrections and amendments:

PART 201—GENERAL PROVISIONS

1. The authority citation for part 201 continues to read as follows:

Authority: 17 U.S.C. 702.

§ 201. 1 [Amended]

2. Amend § 201. 1 as follows:

a. In paragraph (a)(3), by removing “Certifications and Documents Section, LM-402,” and adding in its place “Records Research and Certification Section, LM-455,”;

b. In paragraph (a)(4), by removing “Reference and Bibliography Section, LM-450,” and adding in its place “Records Research and Certification Section, LM-455,”;

c. In paragraph (b)(1), by removing “Certifications and Documents Section or Reference and Bibliography Section” and adding in its place “Records Research and Certification Section”; and removing “Southwest Station”.

d. By revising paragraph (b)(2).

The revisions to § 201. 1 read as follows:

§ 201.1 Communication with the Copyright Office

* * * * *

(b) * * *

(2) Copyright Royalty Board. See § 301. 2 of this title for the mailing address for claims, pleadings, and general correspondence intended for the Copyright Royalty Board.

§ 201. 2 [Amended]

3. Amend § 201. 2 as follows:

a. In paragraph (b)(1), by removing “Certifications and Documents Section” and adding in its place “Records Research and Certification Section”;

b. In paragraph (b)(2), by removing “Records Maintenance Unit” and adding in its place “Records Management Section”;

c. In (b)(3) introductory text, by removing “Information and Reference Division” and adding in its place “Information and Records Division”.

d. In paragraph (b)(3)(i) introductory text by removing “Certification and Documents Section” and adding in its place “Records Research and Certification Section”;

e. In the undesignated text at the end of paragraph (b)(4), by removing “Public Information Office” and adding in its place “Copyright Information Section”.

f. In paragraph (b)(5), by removing “Southwest Station”; and

g. In paragraphs (b)(7) and (d)(1)(iv), by removing “Certifications and Documents Section” each place it appears and adding in its place “Records Research and Certifications Section”.

§ 201. 5 [Amended]

4. Amend § 201. 5(c)(2) by removing “Public Information Office” and adding in its place “Copyright Information Section”.

§ 201. 8 [Amended]

5. Amend § 201. 8(g) as follows:

a. By removing “Copyright Office Receiving & Processing Division” and adding in its place “Copyright Office Receipt, Analysis and Control Division”;

b. By removing “Copyright Office Public Information Office” and adding in its place “Copyright Information Section”; and

c. By removing “Receiving & Processing Division” and adding in its place “Receipt, Analysis and Control Division”.

§ 201. 29 [Amended]

6. Amend § 201. 29(e)(3) by removing “Room LM-458” and adding in its place “Room LM-504”.

§ 201. 33 [Amended]

7. Amend § 201. 33(d)(1) by removing “Southwest Station”.

§ 201. 34 [Amended]

8. Amend § 201. 34(d)(2) by removing “Southwest Station”.

§ 201. 38 [Amended]

9. Amend § 201. 38 as follows:

a. In paragraph (e), by removing “Public Information Office of the Copyright Office” and adding in its place “Copyright Information Section” and by removing “Southwest Station”.

b. In paragraph (f), by removing “Public Information Office of the Copyright Office” and adding in its place “Copyright Information Section”.

§ 201. 39 [Amended]

10. Amend § 201. 39(g)(1) by removing “Public Information Office” and adding in its place “Copyright Information Section”.

PART 202—PREREGISTRATION AND REGISTRATION OF CLAIMS TO COPYRIGHT

11. The authority citation for part 202 continues to read as follows:

Authority: 17 U.S.C. 408(i), 702.

§ 202. 3 [Amended]

12. Amend § 202. 3 as follows:

a. In paragraph (b)(2)(i) and (ii), introductory text, by removing “Public Information Office” and adding in its place “Copyright Information Section” each place it appears; and

b. In paragraph (b)(6)(ii), by removing “Library of Congress, Group Periodicals Registration” and adding in its place “Group Periodicals Registration, Library of Congress.”

§ 202. 5 [Amended]

13. Amend § 202. 5 as follows:

a. In paragraphs (b) introductory text, (b)(1), (b)(3), (b)(4), (c) introductory text, (c)(1) and (c)(3), by removing “Examining Division” each place it appears and adding in its place “Registration and Recordation Program ;

b. In paragraph (d)(1), by removing ”Copyright R&P Division” and adding in its place “Copyright RAC Division”.

§ 202. 12 [Amended]

14. Amend § 202. 12(c)(4)(vi) by removing “Performing Arts Section of the Examining Division” and adding in its place “Performing Arts Division of the Registration and Recordation Program”.

§ 202. 16 [Amended]

15. Amend § 202. 16(c)(11) by removing “Certification and Documents Section of the Information and Reference Division” and adding in its place “Records Research and Certification Section of the Information and Records Division”.

§ 202. 17 [Amended]

16. Amend § 202. 17(g)(1) by removing “Public Information Office” and adding in its place “Copyright Information Section”.

§ 202. 19 [Amended]

17. Amend § 202. 19(e)(3) by removing “Chief, Examining Division” and adding in its place “Associate Register for Registration and Recordation Program”.

§ 202. 20 [Amended]

18. Amend § 202. 20 as follows:

a. In paragraphs (c)(2)(ii), (c)(2)(xvi), and (c)(2)(xix)(B), by removing “Examining Division” each place it appears and adding in its place “Registration and Recordation Program.”; and

b. In paragraphs (d)(3), by removing “Chief, Examining Division” and adding in its place “Associate Register for Registration and Recordation Program”.

§ 202. 21 [Amended]

19. Amend § 202. 21(h) by removing “Examining Division” and adding in its place “Registration and Recordation Program”.

§ 202. 23 [Amended]

20. Amend § 202. 23(b)(2) by removing “Information and Reference Division” and adding in its place “Information and Records Division”.

PART 203—FREEDOM OF INFORMATION ACT: POLICIES AND PROCEDURES

21. The authority citation for part 203 continues to read as follows:

Authority: 17 U.S.C. 702, 5 U.S.C. 552.

§ 203. 3 [Amended]

22. Amend § 203. 3 as follows:

a. In paragraph (b) introductory text, by removing “Associate Register of Copyright for Operations” and adding in its place “Copyright Office Chief of Operations”;

b. In paragraph (b)(1), by removing “Receiving and Processing Division” and adding in its place “Receipt, Analysis and Control Division”;

c. In paragraph (b)(2), by removing “Examining Division” and adding in its place “Registration and Recordation Program”;

d. In paragraph (b)(3), by removing “Cataloging Division” and adding in its place “Registration and Recordation Program”;

e. In paragraph (b)(4) by removing “Information and Reference Division” and adding in its place “Information and Records Division” each place it appears; and by removing “Public Information Office” and adding in its place “Copyright Information Section”;

f. In paragraphs (b)(5) and (c), by removing “Copyright Arbitration Royalty Panels” each place it appears and adding in its place “Copyright Royalty Board”; and

g. By removing paragraph (e) and redesignating paragraphs (f) through (i) as paragraphs (e) through (h), respectively.

§ 203. 4 [Amended]

23. Amend § 203. 4(f) by removing “Southwest Station” each place it appears.

PART 204—PRIVACY ACT: POLICIES AND PROCEDURES

24. The authority citation for part 204 continues to read as follows:

Authority: 17 U.S.C. 702, 5 U.S.C. 552(a).

§ 204.4 [Amended]

25. Amend § 204.4(a) by adding “Copyright” before “Information Section” and by removing “Southwest Station”.

§ 204.5 [Amended]

26. Amend § 204.5(a) by adding “Copyright” before “Information Section” and by removing “Southwest Station”.

§ 204.7 [Amended]

27. Amend § 204.7(a) by adding “Copyright” before “Information Section” and by removing “Southwest Station”.

§ 204.8 [Amended]

28. Amend § 204.8(a) by removing “Southwest Station”.

PART 205—PRODUCTION OF LEGAL DOCUMENTS AND OFFICIAL TESTIMONY

29. The authority citation for part 205 continues to read as follows:

Authority: 17 U.S.C. 702.

§ 205.2 [Amended]

30. Amend § 205.2 as follows:

a. In paragraph (a), by removing “Southwest Station”; and

b. In paragraph (b), by removing “Public Information Office” and adding in its place “Copyright Information Section”.

§ 205.13 [Amended]

31. Amend § 205.13 by removing “Southwest Station” and by removing “Public Information Office” and adding in its place “Copyright Information Section”.

§ 205.22 [Amended]

32. Amend § 205.22 (a) and (b) by removing “ Certifications and Documents Section” and adding in its place “Records Research and Certification Section” each place it appears.

PART 211—MASK WORK PROTECTION

33. The authority citation for part 211 continues to read as follows:

Authority: 17 U.S.C. 702 and 908.

§ 211. 4 [Amended]

34. Amend § 211. 4(b)(1) by removing “Public” and adding “Copyright” in its place.

§ 211. 5 [Amended]

35. Amend § 211. 5(d) by removing “Chief, Examining Division of the Copyright Office, Washington, DC 20559-6000” and adding in its place “Associate Register for Registration and Recordation Program, Library of Congress, Copyright Office - RPO, 101 Independence Avenue, SE, Washington, DC 20559-6200”.

Dated: June 24, 2008
Marybeth Peters,
Register of Copyright,
U.S. Copyright Office.

[FR Doc. E8-14890 Filed 7-1-08; 8:45 am]

BILLING CODE 1410-33-S